DEPARTMENT OF DEFENSE

Office of the Secretary

[Transmittal No. 23-16]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-16, Policy Justification, and Sensitivity of Technology.

Dated: October 7, 2024.
Patricia L. Toppings,
OSD Federal Register Liaison Officer, Department of Defense.

BILLING CODE 6001-FR-P

BILLING CODE 6001-FR-C

Transmittal No. 23-16

Notice of Proposed Issuance of Letter of Offer Pursuant to Section 36(b)(1) of the Arms Export Control Act, as amended

(i) Prospective Purchaser: Government of Poland

(ii) Total Estimated Value:

Major Defense Equipment * | $13 billion
Other | $ 2 billion
TOTAL | $15 billion

Funding Source: National Funds.

(iii) Description and Quantity or Quantities of Articles or Services under Consideration for Purchase: The Government of Poland has requested to buy phase two of a two-phase program for an Integrated Air and Missile Defense (IAMD) Battle Command System (IBCS) enabled PATRIOT Configuration-3+ with modernized sensors and components. The request is for the following equipment:

Major Defense Equipment (MDE):

Forty-eight (48) PATRIOT M903 Launch Stations

Up to six hundred forty-four (644) PATRIOT Advanced Capability (PAC) 3 Missile Segment Enhanced (MSE) Missiles

Forty-eight (48) Launcher Interface Network Kits (LINKs)

Twelve (12) Lower Tier Air and Missile Defense Sensors (LTAMDS)

Twelve (12) Large Tactical Power Systems (LTPS) for the LTAMDS

Non-MDE:

Also included is communications equipment; tools and test equipment; support equipment; generators; spare parts; repair parts; Selective Availability Anti-spoofing Module (SAASM) Global Positioning System Precise Positioning Service receivers; modification kits; U.S. Government and contractor technical, engineering, and logistics support services for planning, execution, Systems Integration and Checkout (SICO), flight test activities, field office support, and training; and other related elements of logistics and program support.

(iv) Military Department: Army (PL-B-UEJ, PL-B-UEK, PL-B-UEL, PL-B-UEM)

(v) Prior Related Cases, if any: PL-B-UCW

(vi) Sales Commission, Fee, etc., Paid, Offered, or Agreed to be Paid: None

(vii) Sensitivity of Technology Contained in the Defense Article or Defense Services Proposed to be Sold: See Attached Annex

(viii) Date Report Delivered to Congress:

* As defined in Section 47(6) of the Arms Export Control Act.

POLICY JUSTIFICATION

Poland—Integrated Air and Missile Defense (IAMD) Battle Command System (IBCS)

The Government of Poland has requested to buy phase two of a two-phase program for an Integrated Air and Missile Defense Battle Command System (IBCS) enabled PATRIOT Configuration-3+ with modernized sensors and components. The request is for the following equipment: forty-eight (48) PATRIOT M903 Launch Stations; up to six hundred forty-four (644) PATRIOT Advanced Capability (PAC) 3 Missile Segment Enhanced (MSE) missiles; forty-eight (48) Launcher Interface Network Kits (LINKs); twelve (12) Lower Tier Air and Missile Defense Sensors (LTAMDS); and twelve (12) Large Tactical Power Systems (LTPS) for the LTAMDS. Also included is communications equipment; tools and test equipment; support equipment; generators; spare parts; repair parts; Selective Availability Anti-spoofing Module (SAASM) Global Positioning System Precise Positioning Service receivers; modification kits; U.S. Government and contractor technical, engineering, and logistics support services for planning, execution, Systems Integration and Checkout (SICO), flight test activities, field office support, and training; and other related elements of logistics and program support. The total estimated program cost is $15 billion.

This proposed sale will support the foreign policy goals and national security objectives of the United States (U.S.) by improving the security of a NATO Ally that is a force for political stability and economic progress in Europe.

The proposed sale will improve Poland's missile defense capability and contribute to Poland's military goals of updating capability while further enhancing interoperability with the U.S. and other allies. Poland will have no difficulty absorbing this equipment into its armed forces.

The proposed sale of this equipment and support will not alter the basic military balance in the region.

The principal contractors will be Raytheon Corporation, Andover, MA; Lockheed-Martin Missiles and Fire Control, Grand Prairie, TX; and another original equipment manufacturer to be selected to develop and produce generator sets for the LTPS. The purchaser has requested offsets. Any offset agreement will be defined in negotiations between the purchaser and the contractor(s).

Implementation of this proposed sale will require approximately forty (40) U.S. Government and/or forty-five (45) contractor representatives to travel to Poland for an extended period for equipment de-processing/fielding, system checkout, training, and technical and logistics support.

There will be no adverse impact on U.S. defense readiness as a result of this proposed sale.

Transmittal No. 23-16

Notice of Proposed Issuance of Letter of Offer Pursuant to Section 36(b)(1) of the Arms Export Control Act

Annex

Item No. vii

(vii) Sensitivity of Technology:

1. The PATRIOT Advanced Capability (PAC) 3 Missile Segment Enhanced (MSE) missile is a small, highly agile, kinetic kill interceptor for defense against tactical ballistic missiles, cruise missiles, and air-breathing threats. The MSE variant of the PAC-3 missile represents the next generation in hit-to-kill interceptors and provides expanded battlespace against evolving threats. The PAC-3 MSE improves upon the original PAC-3 capability with a higher performance solid rocket motor, modified lethality enhancer, more responsive control surfaces, upgraded guidance software, and insensitive munitions improvements.

2. M903 launcher stations are capable of launching the entire family of PATRIOT missiles. All new U.S. launchers are M903 configuration.

3. The highest level of classification of defense articles, components, and services included in this potential sale is SECRET.

4. If a technologically advanced adversary were to obtain knowledge of the specific hardware and software elements, the information could be used to develop countermeasures that might reduce weapon system effectiveness or be used in the development of a system with similar or advanced capabilities.

5. A determination has been made that the Government of Poland can provide substantially the same degree of protection for the sensitive technology being released as the U.S. Government. This sale is necessary in furtherance of the U.S. foreign policy and national security objectives outlined in the Policy Justification.

6. All defense articles and services listed in this transmittal have been authorized for release and export to the Government of Poland.

[FR Doc. 2024-23550 Filed 10-10-24; 8:45 am]

BILLING CODE 6001-FR-P